COMMODITY FUTURES TRADING COMMISSION

17 CFR Parts 3 and 23

RIN 3038-AC95

Registration of Swap Dealers and Major Swap Participants; Correction

AGENCY: Commodity Futures Trading Commission.

ACTION: Final rules; correction.

SUMMARY: This document corrects language in the final rules published in the Federal Register of Thursday, January 19, 2012, regarding the Registration of Swap Dealers and Major Swap Participants. The Commission adopted regulations under the Commodity Exchange Act (Act or CEA) that establish the process for the registration of swap dealers (SDs) and major swap participants (MSPs, and collectively with SDs, Swaps Entities) in accordance with section 4s of the CEA, which was added recently to the CEA by the Dodd-Frank Wall Street Reform and Consumer Protection Act.

DATES: Effective March 19, 2012.

FOR FURTHER INFORMATION CONTACT: Barbara S. Gold, Associate Director, Christopher W. Cummings, Special Counsel, or Elizabeth Miller, Attorney-Advisor, Division of Swap Dealer and Intermediary Oversight, 1155 21st Street NW., Washington, DC 20581. Telephone number: (202) 418-6700 and electronic mail: bgold@cftc.gov, ccummings@cftc.gov, or emiller@cftc.gov.

SUPPLEMENTARY INFORMATION: In the final rule, FR Doc. 2012-00792, on page 2613 in the issue of Thursday, January 11, 2012, the following corrections are made:

1. On page 2616 in the right column, beginning on the thirteenth line of the footnotes, the text “4s(f), 4s(h),” in footnote 33 is corrected to read “4s(f), 4s(g), 4s(h)”.

PART 3—REGISTRATION

§ 3.1 [Corrected]

2. On page 2626 in the left column, in § 3.1 Definitions, in paragraph (f), “4s(e), 4s(f), 4s(h), 4s(i), 4s(j), 4s(k) or 4s(l) of the Act.” is corrected to read “4s(e), 4s(f), 4s(g), 4s(h), 4s(i), 4s(j), 4s(k) or 4s(l) of the Act.”

PART 23—[CORRECTED]

3. On page 2629 in the left column, “Subpart A—Definitions” is corrected to read “Subpart A—[Reserved]”.

Dated: January 20, 2012.
David A. Stawick,
Secretary of the Commission.

[FR Doc. 2012-1507 Filed 1-24-12; 8:45 am]

BILLING CODE P